DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: MEP Management Information Reporting System for the Business and Talent Management Self-Diagnostic Tool.

OMB Control Number: 0693-XXXX.

Form Number(s): None.

Type of Request: Regular submission (new information collection).

Number of Respondents: 600.

Average Hours per Response: 30 minutes.

Burden Hours: 300.

Needs and Uses: NIST Manufacturing Extension Partnership (MEP) is a national network of locally based manufacturing extension centers working with small manufacturers to assist them improve productivity, improve profitability and enhance their economic competitiveness.

The invitation to use to use the tool will be discussed during consultations with clients. Manufacturing clients that choose to use the SMARTalent self-diagnostic tool will use it twice a year. First to understand how well their business goals and workforce practices are aligned. The second time they will use it that year will be to check on their progress. After they use it one time, they will understand where to make changes or enhancements to their business processes and talent management. There will be no need to use it more than twice a year: once to understand their operational baseline and the second time to check on their progress in aligning goals and workforce actions.

Affected Public: Business or other for-profit organizations.

Frequency: Biennially.

Respondent's Obligation: None.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 11, 2014.
Gwellnar Banks,
Management Analyst, Office of the Chief Information Officer.

[FR Doc. 2014-16789 Filed 7-16-14; 8:45 am]

BILLING CODE 3510-13-P